ENVIRONMENTAL PROTECTION AGENCY

40 CFR Part 98

[EPA-HQ-OAR-2014-0831; FRL-9920-82-OAR]

RIN 2060-AS37

Greenhouse Gas Reporting Rule: 2015 Revisions and Confidentiality Determinations for Petroleum and Natural Gas Systems

AGENCY: Environmental Protection Agency.

ACTION: Change in date for public hearing.

SUMMARY: The Environmental Protection Agency (EPA) is announcing a change in date for the public hearing for the proposed rule titled “Greenhouse Gas Reporting Program: 2015 Revision and Confidentiality Determinations for Petroleum and Natural Gas Systems”. The original public hearing date was December 24, 2014, and the new public hearing date will be January 8, 2015.

DATES: The public comment period for this proposal began on December 9, 2014 (79 FR 73148) with the opportunity for a public hearing 15 days later on December 24, 2014. This notice announces that the public hearing date has been changed to January 8, 2015. Public comments for this proposal are due February 9, 2015.

FOR FURTHER INFORMATION CONTACT: Carole Cook, Climate Change Division, Office of Atmospheric Programs (MC-6207A), Environmental Protection Agency, 1200 Pennsylvania Ave. NW., Washington, DC 20460; telephone number: (202) 343-9263; fax number: (202) 343-2342; email address: GHGReportingRule@epa.gov. For technical questions or details about the public hearing, please see the Greenhouse Gas Reporting Program Web site http://www.epa.gov/ghgreporting/index.html. To submit a question, select Help Center, followed by Contact Us.

SUPPLEMENTARY INFORMATION:

Worldwide Web (WWW)

In addition to being available in the docket, an electronic copy of today's notice will also be available through the WWW. Following signature, a copy of this action will be posted on the EPA's greenhouse gas reporting rule Web site at http://www.epa.gov/ghgreporting/index.html.

Background on Today's Action

In this action, the EPA is providing notice that the public hearing date for the proposed rule titled “Greenhouse Gas Reporting Program: 2015 Revisions and Confidentiality Determinations for Petroleum and Natural Gas Systems” has changed. That proposal was published on December 9, 2014, and the previous date for a public hearing, if requested, was 15 days later on December 24, 2014. On December 15, 2014, the EPA received a request for a public hearing along with a request to move the date of the public hearing to accommodate holiday vacation schedules. The EPA is moving the date of the public hearing from December 24, 2014 to January 8, 2015 in response to this request. The comment period for this proposal is unchanged. Public comments for this proposal are due February 9, 2015.

List of Subjects in 40 CFR Part 98

Environmental protection, Administrative practice and procedure, Greenhouse gases, Reporting and recordkeeping requirements.

Dated: December 16, 2014.
Sarah Dunham,
Director, Office of Atmospheric Programs.

[FR Doc. 2014-29867 Filed 12-19-14; 8:45 am]

BILLING CODE 6560-50-P